DEPARTMENT OF TRANSPORTATION

Federal Aviation Administration

14 CFR Part 39

[Docket No. FAA-2010-0458; Directorate Identifier 2010-CE-023-AD; Amendment 39-16372; AD 2010-15-06]

RIN 2120-AA64

Airworthiness Directives; GROB-WERKE GMBH & CO KG Models G102 ASTIR CS and G102 STANDARD ASTIR III Gliders

AGENCY: Federal Aviation Administration (FAA), Department of Transportation (DOT).

ACTION: Final rule.

SUMMARY: We are adopting a new airworthiness directive (AD) for the products listed above. This AD results from mandatory continuing airworthiness information (MCAI) issued by an aviation authority of another country to identify and correct an unsafe condition on an aviation product. The MCAI describes the unsafe condition as:

During an annual inspection, a water ballast hose connector was found disconnected from the fuselage wall of an Astir CS.

The investigation has shown that the hose-fuselage connection bonding has been degraded over years of service.

This condition, if not corrected, could lead to the following consequences:

—The water contained in the wing tanks could run down into the fuselage and fuselage tail which could cause a displacement of the sailplane centre of gravity and consequently may lead to the loss of the sailplane controllability, or/and

—The loosened hose may jam the flight controls (push rods) and consequently may lead to the loss of the sailplane controllability.

We are issuing this AD to require actions to correct the unsafe condition on these products.

DATES: This AD becomes effective September 9, 2010.

On September 9, 2010, the Director of the Federal Register approved the incorporation by reference of certain publications listed in this AD.

ADDRESSES: You may examine the AD docket on the Internet at http://www.regulations.gov or in person at Document Management Facility, U.S. Department of Transportation, Docket Operations, M-30, West Building Ground Floor, Room W12-140, 1200 New Jersey Avenue, SE., Washington, DC 20590.

FOR FURTHER INFORMATION CONTACT: Greg Davison, Aerospace Engineer, FAA, Small Airplane Directorate, 901 Locust, Room 301, Kansas City, Missouri 64106; telephone: (816) 329-4130; fax: (816) 329-4090.

SUPPLEMENTARY INFORMATION:

Discussion

We issued a notice of proposed rulemaking (NPRM) to amend 14 CFR part 39 to include an AD that would apply to the specified products. That NPRM was published in the Federal Register on May 3, 2010 (75 FR 23194). That NPRM proposed to correct an unsafe condition for the specified products. The MCAI states:

During an annual inspection, a water ballast hose connector was found disconnected from the fuselage wall of an Astir CS.

The investigation has shown that the hose-fuselage connection bonding has been degraded over years of service.

This condition, if not corrected, could lead to the following consequences:

—The water contained in the wing tanks could run down into the fuselage and fuselage tail which could cause a displacement of the sailplane centre of gravity and consequently may lead to the loss of the sailplane controllability, or/and

—The loosened hose may jam the flight controls (push rods) and consequently may lead to the loss of the sailplane controllability.

For the reason stated above, the original issue of this AD required the inspection of the waterballast system hose-fuselage connections and the accomplishment of the relevant corrective actions (repair) as necessary.

This AD is revised to clarify the purpose of the insertion of the repetitive inspection in the Aircraft Maintenance Programme and to refer to a more appropriate scheduled maintenance review for the insertion of the repetitive inspection in the Aircraft Maintenance Programme.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a Note within the AD.

Costs of Compliance

We estimate that this AD will affect 113 products of U.S. registry. We also estimate that it will take about 1 work-hour per product to comply with the basic requirements of this AD. The average labor rate is $85 per work-hour.

Based on these figures, we estimate the cost of this AD to the U.S. operators to be $9,605 or $85 per product.

In addition, we estimate that any necessary follow-on actions would take about 1 work-hour and require parts costing $5, for a cost of $90 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-15-06 GROB-WERKE GMBH & CO KG: Amendment 39-16372; Docket No. FAA-2010-0458; Directorate Identifier 2010-CE-023-AD.

Effective Date

(a) This airworthiness directive (AD) becomes effective September 9, 2010.

Affected ADs

(b) None.

Applicability

(c) This AD applies to GROB-WERKE GMBH & CO KG Models G102 ASTIR CS and G102 STANDARD ASTIR III gliders, all serial numbers, that are:

(1) certificated in any category; and

(2) have water ballast equipment installed (the water ballast equipment could have been included as part of an option).

Subject

(d) Air Transport Association of America (ATA) Code 41: Water Ballast.

Reason

(e) The mandatory continuing airworthiness information (MCAI) states:

During an annual inspection, a water ballast hose connector was found disconnected from the fuselage wall of an Astir CS.

The investigation has shown that the hose-fuselage connection bonding has been degraded over years of service.

This condition, if not corrected, could lead to the following consequences:

—The water contained in the wing tanks could run down into the fuselage and fuselage tail which could cause a displacement of the sailplane centre of gravity and consequently may lead to the loss of the sailplane controllability, or/and

—The loosened hose may jam the flight controls (push rods) and consequently may lead to the loss of the sailplane controllability.

For the reason stated above, the original issue of this AD required the inspection of the waterballast system hose-fuselage connections and the accomplishment of the relevant corrective actions (repair) as necessary.

This AD is revised to clarify the purpose of the insertion of the repetitive inspection in the Aircraft Maintenance Programme and to refer to a more appropriate scheduled maintenance review for the insertion of the repetitive inspection in the Aircraft Maintenance Programme.

Actions and Compliance

(f) Unless already done, do the following actions:

(1) Within 30 days after September 9, 2010 (the effective date of this AD) and repetitively thereafter at intervals not to exceed 12 months, inspect the bonding between the water ballast system hose connectors and the fuselage wall connectors for correct and tight connection following paragraph 1.8 of Grob Aircraft Service Bulletin No. MSB-GROB-003, dated October 21, 2009.

(2) If, during any inspection required by paragraph (f)(1) of this AD, any weak bonding is found, before further flight, repair the connection between the water ballast system hose connectors and the fuselage wall connectors following the instructions of paragraph 1.8 of Grob Aircraft Service Bulletin No. MSB-GROB-003, dated October 21, 2009.

(3) After September 9, 2010 (the effective date of this AD), when installing a water ballast system on any affected sailplane, ensure that the water ballast system hose connectors and the fuselage wall connector are properly and tightly bonded.

(4) Within 30 days after September 9, 2010 (the effective date of this AD), insert the following scheduled maintenance task into the FAA-approved aircraft maintenance program: “During each annual inspection and without exceeding a 12-month interval, inspect the bonding between the water ballast system hose connectors and the fuselage wall connectors for correct and tight connection. Repair any incorrect or loose connection.”

FAA AD Differences

Note: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to ATTN: Greg Davison, Aerospace Engineer, FAA, Small Airplane Directorate, 901 Locust, Room 301, Kansas City, Missouri 64106; telephone: (816) 329-4130; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI European Aviation Safety Agency AD No.: 2010-0053R1, dated April 14, 2010; and Grob Aircraft Service Bulletin No. MSB-GROB-003, dated October 21, 2009, for related information.

Material Incorporated by Reference

(i) You must use Grob Aircraft Service Bulletin No. MSB-GROB-003, dated October 21, 2009, to do the actions required by this AD, unless the AD specifies otherwise.

(1) The Director of the Federal Register approved the incorporation by reference of this service information under 5 U.S.C. 552(a) and 1 CFR part 51.

(2) For service information identified in this AD, contact Grob Aircraft, Head of Customer Service & Support, Lettenbachstr. 9, Tussenhausen-Mattsies, Germany; telephone: +49 (0) 8268 998 139; fax: +49 (0) 8268 998 200; E-mail: productsupport@grob-aircraft.com; Internet: www.grob-aircraft.com and/or http://www.firecmm.com.

(3) You may review copies of the service information incorporated by reference for this AD at the FAA, Central Region, Office of the Regional Counsel, 901 Locust, Kansas City, Missouri 64106. For information on the availability of this material at the Central Region, call (816) 329-3768.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri, on July 15, 2010.
Kim Smith,
Manager, Small Airplane Directorate, Aircraft Certification Service.

[FR Doc. 2010-18289 Filed 8-4-10; 8:45 am]

BILLING CODE 4910-13-P